DEPARTMENT OF HEALTH AND HUMAN SERVICES

National Institutes of Health

Submission for OMB Review; Comment Request; Partner and Customer Satisfaction Surveys

SUMMARY: Under the provisions of section 3506(c)(2)(A) ( of the Paperwork Reduction Act of 1995 for the opportunity for public comment on the proposed data collection projects, the Center for Scientific Review (CSR), National Institutes of Health (NIH), has submitted to the Office of Management and Budget (OMB) a request to review and approve the information collection listed below. This proposed information collection was previously published in the Federal Register on November 3, 2003, page 62304 and allowed 60 days for public comment. No public comments were received. The purpose of this notice is to allow an additional 30 days for public comment. The National Institutes of Health may not conduct or sponsor, the respondent is not required to respond to, an information collection that has been extended, revised, or implemented on or after October 1, 1995, unless it displays a currently valid OMB control number.

PROPOSED COLLECTION: Title: Customer Satisfaction Surveys. Type of Information Collection Request: Reinstatement. Need and Use of Information Collection: The information collected in these surveys will be used by the Center for Scientific Review management and personnel: (1) To assess the quality of the modified operations and processes now used by CSR to review grant applications; (2) to assess the quality of service provided by CSR to our customers; (3) to examine and assess the effectiveness of the reorganization and reconfiguration of the peer review study committees based on customer input; (4) to develop new modes of operation based on customer need and customer feedback about the efficacy of implemented modifications. These surveys will almost certainly lead to quality improvement activities that will enhance and/or streamline CSR's operations. The major mechanism by which CSR will request input is through surveys. The survey for customers, i.e., past and present grant applicants, is generic, but will have slight variations tailored to the scientific subject category of each major Integrated Review Group (IRG). The next major reorganized IRGs to be evaluated consist of the Behavioral and Social Sciences peer review study sections. Surveys will be collected via Internet. Information gathered from these surveys will be presented to, and used directly by, CSR management to enhance the operations, processes, organization of, and services provided by the Center.

Frequency of Response: The participants will respond once, unless there is a compelling reason for a subsequent survey.

Affected Public: Universities, not-for-profit institutions, business or other for-profit, small businesses and organizations, and individuals. Type of Respondents: Adult scientific professionals. The annual reporting burden is as follows: It is estimated that the survey form will take 20 minutes to complete. The estimated annual cost burden for respondents for each year for which the generic clearance is requested is $16,000 for FY 2004, $13,333 for FY 2005, $18,667 for FY 2006, and $24,000 for FY 2007. Thus, the combined total FY 2004-2007 potential hour burden on the respondents is estimated to be 1,800 hours for 5,400 respondents for all surveys which would be conducted under this generic clearance. If all planned surveys are conducted, the total four-year cost to respondents is estimated to be $72,000. Respondents should incur no additional costs. There will be dissemination and analysis costs for the survey originators. There are no capital, operating, or maintenance costs to report.

REQUESTS FOR COMMENTS: Written comments and/or suggestions from the public and affected agencies are invited on one or more of the following points: (1) Whether the proposed collection of information is necessary for the proper performance of the functions of the CSR, including whether the information will have practical utility; (2) the accuracy of the agency's estimate of the burden of the proposed collection of information, including the validity of the methodology and assumptions used; (3) ways to enhance the quality, utility, and clarity of the information to be collected; and (4) ways to minimize the burden of the collection of information on those who are to respond while maintaining their anonymity, including the use of automated, electronic, mechanical, or other technological collection techniques or other forms of information technology.

DIRECT COMMENTS TO OMB: Written comments and/or suggestions regarding the item(s) contained in this notice, especially regarding the estimated public burden and associated response time, should be directed to the: Office of Management and Budget, Office of Regulatory Affairs, New Executive Office Building, Room 10235, Washington, DC 20503, Attention: Desk Officer for NIH.

FOR FURTHER INFORMATION CONTACT: To request more information on the proposed project or to obtain a copy of the data collection plans, contact: Karl F. Malik, Ph.D., Assistant to the Deputy Director, Office of the Director, Center for Scientific Review, National Institutes of Health, Rockledge II, Rm 3016, 6701 Rockledge Drive, Bethesda, MD 20814-9692, or call non-toll free: 301-435-1114, or e-mail your request or comments, including your address to: malikk@csr.nih.gov.

DATES: Comments regarding this information collection are best assured of having their full effect if received within 30 days of the date of this publication.

Brent Stanfield,
Acting Director, Center for Scientific Review, National Institutes of Health.

[FR Doc. 04-5814 Filed 3-12-04; 8:45 am]

BILLING CODE 4140-01-M